ENVIRONMENTAL PROTECTION AGENCY

[EPA-HQ-OAR-2013-0263; FRL-9909-15-OAR]

Protection of Stratospheric Ozone: Notice of Data Availability Regarding Aggregate HCFC-22 Inventory Data From 2008-2013

AGENCY: Environmental Protection Agency (EPA).

ACTION: Notice of Availability.

SUMMARY: Today's notice announces the availability of two additional documents related to Protection of Stratospheric Ozone: Adjustments to the Allowance System for Controlling HCFC Production, Import and Export (2015-2019). The first document shows the aggregated results of Clean Air Act section 114 requests for information on the amount of HCFC-22 inventory held by nine entities between 2008 and 2013. The second is an updated draft of the 2013 Servicing Tail Report, which revises statements regarding alternatives to HCFC-123 for fire suppression and modeled need for virgin HCFC-123 for this purpose.

DATES: Comments on this notice of data availability must be received on or before April 22, 2014.

ADDRESSES: Submit your comments, identified by Docket ID No. EPA-HQ-OAR-2013-0263, by one of the following methods:

• www.regulations.gov: Follow the online instructions for submitting comments.

• Email: a-and-r-docket@epa.gov.

• Mail: Docket #EPA-HQ-OAR-2013-0263, Air and Radiation Docket and Information Center, United States Environmental Protection Agency, Mail code: 6102T, 1200 Pennsylvania Avenue NW., Washington, DC 20460.

• Hand Delivery: Docket #EPA-HQ-OAR-2013-0263 Air and Radiation Docket at EPA West, 1301 Constitution Avenue NW., Room 3340, Mail Code 6102T, Washington, DC 20004. Such deliveries are only accepted during the Docket's normal hours of operation, and special arrangements should be made for deliveries of boxed information.

Instructions: Direct your comments to Docket ID No. EPA-HQ-OAR-2013-0263. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. If you want to submit confidential comments, please send them to the individual listed in the FOR FURTHER INFORMATION CONTACT section. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at www.epa.gov/epahome/dockets.htm.

FOR FURTHER INFORMATION CONTACT: Elizabeth Whiteley by telephone at (202) 343-9310 or by email at whiteley.elizabeth@epa.gov, or by mail at United States Environmental Protection Agency, Stratospheric Protection Division (6205J), 1200 Pennsylvania Ave. NW., Washington DC 20460. You may also visit the Ozone Protection Web site of EPA's Stratospheric Protection Division at www.epa.gov/ozone/strathome.html for further information about EPA's Stratospheric Ozone Protection regulations, the science of ozone layer depletion, and related topics.

SUPPLEMENTARY INFORMATION:

I. General Information

A. Does this action apply to me?

This notice announces the availability of data relevant to the proposed rule titled, Protection of Stratospheric Ozone: Adjustments to the Allowance System for Controlling HCFC Production, Import and Export, which published in the Federal Register on December 24, 2013, and covers the years 2015-2019. When final, that rule may affect the following categories, thus this notice of availability may be of interest to:

• Industrial Gas Manufacturing entities (NAICS code 325120), including fluorinated hydrocarbon gases manufacturers and reclaimers;

• Other Chemical and Allied Products Merchant Wholesalers (NAICS code 422690), including chemical gases and compressed gases merchant wholesalers;

• Air-Conditioning and Warm Air Heating Equipment and Commercial and Industrial Refrigeration Equipment Manufacturing entities (NAICS code 333415), including air-conditioning equipment and commercial and industrial refrigeration equipment manufacturers;

• Air-Conditioning Equipment and Supplies Merchant Wholesalers (NAICS code 423730), including air-conditioning (condensing unit, compressors) merchant wholesalers;

• Electrical and Electronic Appliance, Television, and Radio Set Merchant Wholesalers (NAICS code 423620), including air-conditioning (room units) merchant wholesalers;

• Plumbing, Heating, and Air-Conditioning Contractors (NAICS code 238220), including central air-conditioning system, commercial refrigeration installation and HVAC contractors; and

• Refrigerant reclaimers, manufacturers of recovery/recycling equipment, and refrigerant recovery/recycling equipment testing organizations.

This list is not intended to be exhaustive, but rather provides a guide for readers regarding entities likely to be interested in this notice.

B. What should I consider as I prepare my comments for EPA?

1. Confidential Business Information (CBI)

Do not submit this information to EPA through www.regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR Part 2.

2. Tips for Preparing Your Comments

When submitting comments, remember to:

• Identify the rulemaking by docket number and other identifying information (subject heading, Federal Register date and page number).

• Follow directions—The agency may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. What data are available?

EPA is announcing the availability of two documents in docket EPA-HQ-OAR-2013-0263, which is the docket for the rulemaking titled, Protection of Stratospheric Ozone: Adjustments to the Allowance System for Controlling HCFC Production, Import and Export (2015-2019). EPA intends to consider comments on this data as it develops the rule finalizing the December 24, 2013 proposal (78 FR 78072).

The first of those documents is 2008-2013 HCFC-22 Aggregate Inventory Data. In August 2013, under the authority of Clean Air Act section 114, the Environmental Protection Agency (EPA) sent letters to nine major entities in the HCFC-22 market, including producers, importers, distributors and reclaimers of HCFC-22. The agency asked for each company's HCFC-22 inventory as of December 31 in the years 2008 through 2012. At least one respondent to EPA's section 114 request claimed the aggregate calendar-year HCFC-22 inventory data from all nine entities as confidential business information; therefore, EPA was obligated to follow its Confidential Business Information regulations at 40 CFR Part 2 Subpart B with respect to the aggregate data and could not release those data at the time of the agency's proposed rule for the allocation of 2015-2019 HCFC allowances (December 24, 2013, 78 FR 78072). On February 18, 2014, EPA issued a final determination that the aggregate inventory data is not entitled to confidential treatment. EPA sent a second letter under the authority of section 114 of the Clean Air Act to the same nine entities on February 27, 2014, requesting each company's HCFC-22 inventory as of December 31, 2013. No company claimed the aggregate inventory data for 2013 as confidential business information.

EPA posted the 2008-2012 aggregate inventory data on the agency's Web site at http://www.epa.gov/ozone/title6/phaseout/classtwo.html and notified stakeholders via email on March 10, 2014. EPA posted the 2013 aggregate inventory data on the agency's Web site and notified stakeholders via email on March 27, 2014. EPA also added these two sets of data to the docket on March 14, 2014 and with this notice, respectively. Given that EPA has already made these data available through other means, including direct notice to stakeholders, EPA believes that 15 days is an adequate period for public comment on this notice.

In preparing its proposed rule, EPA considered the annual trend of HCFC-22 inventory amounts, and the existing inventory at the end of 2012. Existing HCFC-22 inventory can be used to meet a portion of servicing demand, thus enabling the agency to issue fewer HCFC-22 consumption allowances and prevent additional emissions of ozone-depleting HCFC-22. As noted in the proposed rule, the inventory data collected through EPA's August 2013 letters indicated that HCFC-22 inventory was higher than the agency's previous estimate of 22,700 to 45,400 MT. EPA also noted that several stakeholders expected inventory to rise in 2013 and 2014. While the nine entities do not hold the complete inventory of HCFC-22, discussions with stakeholders both before and after the rule was proposed indicate that the aggregate inventory from these nine entities likely constitutes a significant majority of the HCFC-22 in inventory on the specified dates.

The agency is also announcing revisions to the 2013 Servicing Tail Report, also available in the docket. These changes revise statements regarding alternatives to HCFC-123 for fire suppression and modeled need for virgin HCFC-123 for this purpose.

Dated: March 31, 2014.
Sarah Dunham,
Director, Office of Atmospheric Programs.

[FR Doc. 2014-07718 Filed 4-4-14; 8:45 am]

BILLING CODE 6560-50-P